DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of two individuals and one entity whose property and interests in property have been unblocked pursuant to the Foreign Narcotics Kingpin Designation Act (Kingpin Act) (21 U.S.C. Sections 1901-1908, 8 U.S.C. Section 1182). Additionally, OFAC is publishing an update to the identifying information of one individual currently included in the list of Specially Designated Nationals and Blocked Persons (SDN List).

DATES: The unblocking and removal from the SDN List of the 2 individuals and 1 entity and the update of two individuals identified in this notice whose property and interests in property were blocked pursuant to the Kingpin Act, is effective on January 7, 2016.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On January 7, 2016, the Associate Director of the Office of Global Targeting removed from the SDN List the individuals and entity listed below, whose property and interests in property were blocked pursuant to the Kingpin Act:

Individuals

1. AMARILLAS LOPEZ, Gabriela, Av. de la Mancha #738 A, Col. Lomas de Zapopan, Zapopan, Jalisco 45130, Mexico; Av. Rio Choix 824, Culiacan, Sinaloa, Mexico; DOB 21 Sep 1979; POB Culiacan, Sinaloa, Mexico; C.U.R.P. AALG790921MSLMPB09 (Mexico) (individual) [SDNTK] (Linked To: CASA DE EMPENO GUADALAJARA, S.A. DE C.V.).

2. RESTREPO ZAPATA, Milvia Yaneth (a.k.a. RESTREPO ZAPATA, Milvia Janeth), c/o BIO FORESTAL S.A., Medellin, Colombia; c/o C.I. OKCOFFEE COLOMBIA S.A., Bogota, Colombia; c/o C.I. OKCOFFEE INTERNATIONAL S.A., Bogota, Colombia; c/o FUNDACION OKCOFFEE COLOMBIA, Bogota, Colombia; c/o FUNDACION PARA EL BIENESTAR Y EL PORVENIR, Medellin, Colombia; c/o HOTELES Y BIENES S.A., Bogota, Colombia; c/o INVERPUNTO DEL VALLE S.A., Cali, Colombia; c/o PROMO RAIZ S.A., Medellin, Colombia; c/o UNION DE CONSTRUCTORES CONUSA S.A., Bogota, Colombia; Carrera 112 GT No. 86B-60, Bogota, Colombia; c/o R D I S.A., Bogota, Colombia; DOB 13 Dec 1973; Cedula No. 43825354 (Colombia) (individual) [SDNTK].

Entity

1. CASA DE EMPENO GUADALAJARA, S.A. DE C.V. (a.k.a. EMPENOS PRESTAFACIL), Av. Lopez Cotilla No. 100, Col. Centro, Guadalajara, Jalisco C.P. 44100, Mexico; Av. De La Mancha No. 738, Col. Lomas de Zapopan, Zapopan, Jalisco C.P. 45130, Mexico; R.F.C. CEG-000629-9H7 (Mexico); Folio Mercantil No. 4243-1 (Mexico) [SDNTK].

Additionally, on January 7, 2016, the Associate Director of the Office of Global Targeting updated the SDN record for two individuals listed below, whose property and interests in property continue to be blocked pursuant to the Order:

Individuals

1. CUELLAR SILVA, John Fredy, Calle Paseo Royal Country 5598-23, Fraccionamiento Royal Country, Zapopan, Jalisco, Mexico; Lopez Cotilla 100 Centro, Guadalajara, Jalisco C.P. 44100, Mexico; DOB 17 May 1976; POB Florencia, Caqueta, Colombia; Cedula No. 79904164 (Colombia); R.F.C. CUSJ760517HNE (Mexico) (individual) [SDNTK] (Linked To: AGRO Y COMERCIO DE SANTA BARBARA LAGROMER S. EN C.; Linked To: COMPANIA AGRO COMERCIAL CUETA S. EN C.; Linked To: INVERSIONES HUNEL LTDA.; Linked To: CASA COMERCIAL ORO RAPIDO; Linked To: CASA DE EMPENO GUADALAJARA, S.A. DE C.V.; Linked To: PRENDA TODO, S.A. DE C.V.).

-to-

CUELLAR SILVA, John Fredy, Calle Paseo Royal Country 5598-23, Fraccionamiento Royal Country, Zapopan, Jalisco, Mexico; Lopez Cotilla 100 Centro, Guadalajara, Jalisco C.P. 44100, Mexico; DOB 17 May 1976; POB Florencia, Caqueta, Colombia; Cedula No. 79904164 (Colombia); R.F.C. CUSJ760517HNE (Mexico) (individual) [SDNTK] (Linked To: AGRO Y COMERCIO DE SANTA BARBARA LAGROMER S. EN C.; Linked To: COMPANIA AGRO COMERCIAL CUETA S. EN C.; Linked To: INVERSIONES HUNEL LTDA.; Linked To: CASA COMERCIAL ORO RAPIDO; Linked To: PRENDA TODO, S.A. DE C.V.).

2. GAXIOLA MEDINA, Rigoberto (a.k.a. MEDINA SAENZ, Enrique; a.k.a. MORALES GUERRERO, Juan Antonio; a.k.a. SAENZ MEDINA, Enrique), Calle Clavel No. 1406, Colonia Margarita, Culiacan, Sinaloa, Mexico; Hermosillo, Sonora, Mexico; DOB 27 Sep 1950; POB Sinaloa, Mexico; citizen Mexico; nationality Mexico; R.F.C. GAMR-501027 (Mexico) (individual) [SDNTK].

-to-

GAXIOLA MEDINA, Rigoberto (a.k.a. MEDINA SAENZ, Enrique; a.k.a. MORALES GUERRERO, Juan Antonio; a.k.a. SAENZ MEDINA, Enrique), Calle Clavel No. 1406, Colonia Margarita, Culiacan, Sinaloa, Mexico; Hermosillo, Sonora, Mexico; DOB 27 Sep 1950; alt. DOB 27 Oct 1950; POB Sinaloa, Mexico; citizen Mexico; nationality Mexico; R.F.C. GAMR-501027 (Mexico); C.U.R.P. GAMR501027HSLXDG00 (Mexico) (individual) [SDNTK].

Dated: January 7, 2016.
Gregory T. Gatjanis,
Associate Director, Office of Global Targeting, Office of Foreign Assets Control.

[FR Doc. 2016-00476 Filed 1-12-16; 8:45 am]

BILLING CODE 4810-AL-P